DEPARTMENT OF TRANSPORTATION

Federal Aviation Administration

14 CFR Part 71

[Airspace Docket No. 02-AAL-6]

Proposed Revision of Class E Airspace; Point Hope, AK

AGENCY: Federal Aviation Administration (FAA), DOT.

ACTION: Notice of proposed rulemaking.

SUMMARY: This action proposes to revise Class E airspace at Point Hope, AK. Two new Standard Instrument Approach Procedures (SIAP) are being established for the Point Hope Airport. In addition, the Non Directional Beacon (NDB) Runway 1 and NDB Runway 19 SIAPs are being amended. The existing Class E airspace at Point Hope is insufficient to contain aircraft executing the new and revised SIAPs and thus needs to be increased. Adoption of this proposal would result in the addition and revision of Class E airspace at Point Hope, AK.

DATES: Comments must be received on or before November 12, 2002.

ADDRESSES: Send comments on the proposal in triplicate to: Manager, Operations Branch, AAL-530, Docket No. 02-AAL-6, Federal Aviation Administration, 222 West 7th Avenue, Box 14, Anchorage, AK 99513-7587.

The official docket may be examined in the Office of the Regional Counsel for the Alaskan Region at the same address.

An informal docket may also be examined during normal business hours in the Office of the Manager, Operations Branch, Air Traffic Division, at the address shown above and on the Internet at Alaskan Region's home page at http://www.alaska.faa.gov/at or at address http://162.58.28.41/at.

FOR FURTHER INFORMATION CONTACT: Derril Bergt, AAL-538, Federal Aviation Administration, 222 West 7th Avenue, Box 14, Anchorage, AK 99513-7587; telephone number (907) 271-2796; fax: (907) 271-2850; e-mail: Derril.CTR.Bergt@faa.gov. Internet address: http://www.alaska.faa.gov/at or at address http://162.58.28.41/at.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this action must submit with those comments a self-addressed, stamped postcard on which the following statement is made: “Comments to Airspace Docket No. 02-AAL-6.” The postcard will be date/time stamped and returned to the commenter. All communications received on or before the specified closing date for comments will be considered before taking action on the proposed rule. The proposal contained in this action may be changed in light of comments received. All comments submitted will be available for examination in the Operations Branch, Air Traffic Division, Federal Aviation Administration, 222 West 7th Avenue, Box 14, Anchorage, AK, both before and after the closing date for comments. A report summarizing each substantive public contact with FAA personnel concerned with this rulemaking will be filed in the docket.

Availability of Notice of Proposed Rulemaking's (NPRM's)

An electronic copy of this document may be downloaded, using a modem and suitable communications software, from the FAA regulations section of the Fedworld electronic bulletin board service (telephone: 703-321-3339) or the Federal Register's electronic bulletin board service (telephone: 202-512-1661).

Internet users may reach the Government Printing Office's Web page for access to recently published rulemaking documents at http://www.access.gpo.gov/su_docs/aces/aces140.html.

Any person may obtain a copy of this NPRM by submitting a request to the Operations Branch, AAL-530, Federal Aviation Administration, 222 West 7th Avenue, Box 14, Anchorage, AK 99513-7587. Communications must identify the docket number of this NPRM. Persons interested in being placed on a mailing list for future NPRM's should contact the individual(s) identified in the FOR FURTHER INFORMATION CONTACT section.

The Proposal

The FAA proposes to amend 14 CFR part 71 by revising Class E airspace at Point Hope, AK. The intended effect of this proposal is to extend that Class E controlled airspace above 1,200 feet to enable IFR operations at Point Hope, AK to be contained within controlled airspace.

The FAA Instrument Flight Procedures Production and Maintenance Branch has developed two new SIAPs for the Point Hope Airport. The new approaches are (1) Area Navigation (Goblal Positioning System) (RNAV GPS) Runway 1, original; and (2) RNAV (GPS) Runway 19, original. In addition, two SIAPs are being amended: (1) The Non-directional Radio Beacon/Distance Measuring Equipment (NDB) or GPS Runway 1 approach will become the NDB Runway 1 approach, and (2) the NDB or GPS Runway 19 approach will become the NDB Runway 19 approach. Navigation intersections on existing airways have also been created to initiate transitions to the new SIAPs. The transitions require more airspace than currently exists to contain Instrument Flight Rules (IFR) aircraft.

That airspace currently extending upward from 700 feet above the surface within a 6.4 mile radius (with extensions) of the Point Hope Airport will not be affected by this action. That airspace extending upward from 1,200 feet above the surface will be revised and expanded if this action is taken.

The area would be depicted on aeronautical charts for pilot reference. The coordinates for this airspace docket are based on North American Datum 83. The Class E airspace areas extending upward from 700 feet or more above the surface of the earth are published in paragraph 6005 in FAA Order 7400.9J, Airspace Designations and Reporting Points, dated August 31, 2001, and effective September 16, 2001, which is incorporated by reference in 14 CFR 71.1. The Class E airspace designations listed in this document would be published subsequently in the Order.

The FAA has determined that this proposed regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9J, Airspace Designations and Reporting Points, dated August 31, 2001, and effective September 16, 2001, is amended as follows:

* * * * *

Paragraph 6005 Class E airspace extending upward from 700 feet or more above the surface of the earth.

* * * * *

AAL AK E5 Point Hope, AK—[REVISED]

Point Hope Airport, AK

(Lat. 68°20′56″ N., long. 166°47′58″ W.)

Point Hope NDB

(Lat. 68°20′41″ N., long. 166°47′51″ W.)

That airspace extending upward from 700 feet above the surface within a 6.4-mile radius of the Point Hope Airport and within 3 miles each side of the 207° bearing of the Point Hope NDB extending from the 6.4-mile radius to 10.3 miles southwest of the airport and within 3 miles either side of the Point Hope NDB 017° bearing extending from the 6.4-mile radius to 9.9 miles northeast of the airport; and that airspace extending upward from 1,200 feet above the surface within lat. 68°45′00″ N, long. 166°00′00″ W; to lat. 68°15′00″ N, long. 165°53′00″ W; to lat. 67°55′00″ N, long. 166°03′00″ W; to lat. 68°01′30″ N, long. 167°25′00″ W; to lat. 68°45′00″ N, long. 166°52′30″ W, to the point of beginning.

* * * * *

Issued in Anchorage, AK, on September 18, 2002.
Stephen P. Creamer,
Assistant Manager, Air Traffic Division, Alaskan Region.

[FR Doc. 02-24452 Filed 9-26-02; 8:45 am]

BILLING CODE 4910-13-P